DEPARTMENT OF THE INTERIOR

Bureau of Land Management

[ES-032-00-1430-BK ES-51284, Group 103, Michigan

Notice of Filing of Plat of Survey; Michigan

The plat of the survey of the Grand Traverse Light Station, in lot no. 3, of section 6, Township 32 North, Range 10 West, Michigan Meridian, Michigan, will be officially filed in Eastern States, Springfield, Virginia at 7:30 a.m., on March 18, 2002.

The survey was made at the request of the Bureau of Land Management, Milwaukee Field Office.

All inquiries or protests concerning the technical aspects of the survey must be sent to the Chief Cadastral Surveyor, Eastern States, Bureau of Land Management, 7450 Boston Boulevard, Springfield, Virginia 22153, prior to 7:30 a.m., March 18, 2002.

Copies of the plat will be made available upon request and prepayment of the appropriate fee.

Dated: January 22, 2002.
Stephen D. Douglas,
Chief Cadastral Surveyor.

[FR Doc. 02-4158 Filed 2-20-02; 8:45 am]

BILLING CODE 4310-GJ-P